DEPARTMENT OF HOUSING AND URBAN DEVELOPMENT

[Docket No. FR-5121-N-29]

Notice of Proposed Information Collection: Comment Request; Housing Counseling Program—Biennial Agency Performance Review

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: November 5, 2007.

ADDRESSES: Interested persons are invited to submit comments regarding this proposal. Comments should refer to the proposal by name and/or OMB Control Number and should be sent to: Lillian L. Deitzer, Reports Management Officer, Department of Housing and Urban Development, 451 7th Street, SW., L'Enfant Plaza Building, Room 8003, Washington, DC 20410 or Lillian_L._deitzer@hud.gov.

FOR FURTHER INFORMATION CONTACT: Margaret Burns, Director, Office of Single Family Program Development, Department of Housing and Urban Development, 451 7th Street, SW., Washington, DC 20410, telephone (202) 708-2121 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This Notice also lists the following information:

Title of Proposal: Housing Counseling Program—Biennial Agency Performance Review.

OMB Control Number, if applicable: 2502-NEW.

The information collection is essential to the Department's mission to expand homeownership opportunities and improve access to affordable housing. The Housing Counseling Program supports the delivery of a wide variety of housing counseling services to homebuyers, homeowners, low- to moderate-income renters, and the homeless. Counselors provide guidance and advice to help families and individuals improve their housing conditions and meet the responsibilities of tenancy and homeownership. Counselors also help borrowers avoid predatory lending practices, such as inflated appraisals, unreasonably high interest rates, unaffordable repayment terms, and other conditions that can result in a loss of equity, increased debt, default, and foreclosure. Housing Counseling Agencies are viewed as significant partners in helping HUD expand opportunities for individuals to receive adequate, professional housing counseling services.

In order to maintain their status as a HUD-approved agency, housing counseling agencies must remain in compliance with program policies and regulations. HUD determines during the course of perform reviews if an agency has remained in compliance with the program regulations. Findings from performance reviews are used to approve or disapprove the status of housing counseling agencies to participate in the program. The form HUD-9910, is the performance review checklist used by HUD employees to the biennial reviews. The information collected during the review is used to assist HUD in evaluating the managerial and financial capacity of organizations to sustain operations sufficient to implement HUD approved housing counseling programs. If agencies are found to be non-compliant HUD may revoke an agency's approval status and prohibit their participation in the Housing Counseling Program.

Agency form numbers, if applicable: HUD-9910.

Estimation of the total numbers of hours needed to prepare the information collection including number of respondents, frequency of response, and hours of response: The number of respondents are estimated to be 583 generating approximately 583 annual responses; the frequency of response is biennially, the estimated time needed to respond is 2.5 hours; and the total estimated annual burden hours are 1,457.

Status of the proposed information collection: This is a new information collection request. Portions of this request were formerly approved under OMB Control Number 2502-0261.

Authority: The Paperwork Reduction Act of 1995, 44 U.S.C., Chapter 35, as amended.

Dated: August 24, 2007.
Frank L. Davis,
General Deputy Assistant Secretary for Housing-Deputy Federal Housing Commissioner.

[FR Doc. E7-17488 Filed 9-4-07; 8:45 am]

BILLING CODE 4210-67-P